SUSQUEHANNA RIVER BASIN COMMISSION

18 CFR Parts 806 and 808

Review and Approval of Projects; Hearings and Enforcement Actions

Correction

In rule document 2017-13324, appearing on pages 29387-29397 in the Issue of Thursday, June 29, make the following correction:

§ 806.1 [Corrected]

1. On page 29390, the first column, the fifth line down “§ 806.1806.1 Scope.”, should read as “806.1 Scope.”

§ 806.3 [Corrected]

2. On page 29390, the first column, the twenty-seventh line from the bottom “§ 806.3806.3 Definitions.”, should read as “§ 806.3 Definitions.”

§ 806.4 [Corrected]

3. On page 29390, the first column, the eleventh line from the bottom “§ 806.4806.4 Projects requiring review and approval.”, should read as “§ 806.4 Projects requiring review and approval.”

§ 806.6 [Corrected]

4. On page 29390, the third column, the fourteenth line from the top “§ 806.6806.6 Transfer of approvals.”, should read as “§ 806.6 Transfer of approvals.”

§ 808.1 [Corrected]

5. On page 29395, the second column, the eighth line from the top “§ 808.1808.1 Public hearings.”, should read as “§ 808.1 Public hearings.”

§ 808.2 [Corrected]

6. On page 29396, the first column, the eighth line from the top “§ 808.2808.2 Administrative appeals.”, should read as “§ 808.2 Administrative appeals.”

[FR Doc. C1-2017-13324 Filed 7-28-17; 8:45 am]

BILLING CODE 1300-01-D